DEPARTMENT OF ENERGY

Federal Energy Regulatory Commission

[Docket No. RM04-2-000]

Rules Concerning Certification of an Electric Reliability Organization and the Establishment, Approval, and Enforcement of Electric Reliability Standards; Supplemental Notice of Conference

November 24, 2003.

As announced in the notice issued November 17, 2003 (as corrected November 18, 2003), the Federal Energy Regulatory Commission (Commission) will hold a conference on Monday, December 1, 2003, at Commission headquarters, 888 First Street, NE., Washington, DC, in the Commission Meeting Room (Room 2C), at 1:30 p.m. This supplemental Notice provides additional information regarding the conference.

Issues for Discussion

The conference will address the following topics related to ensuring the reliability of the nation's bulk power system:

1. Interim Report: Causes of the August 14th Blackout in the United States and Canada (“Blackout Report”), prepared by the U.S.-Canada Power System Outage Task Force.

2. Review of the current status of institutions and practices for ensuring the reliability of the bulk power system.

3. What, if anything, the Commission should do to promote a reliable bulk power system.

Format

Topics 1 and 2 will consist of presentations by Commission Staff as well as invited outside speakers. Conference attendees should prepare to address topic 3 during an “open microphone” session.

Remote (Internet) Listening and Viewing

While the November 17, 2003 Notice indicated that the opportunity for live remote listening and viewing of the conference over the Internet would be available for a fee, the opportunity for remote listening and viewing will not be available for the conference.

For additional information please contact Jonathan First, 202-502-8529 or by e-mail at Jonathan.First@ferc.gov or William Longenecker, 202-502-8570 or by e-mail at William.Longenecker@ferc.gov.

Magalie R. Salas,
Secretary.

[FR Doc. E3-00421 Filed 12-2-03; 8:45 am]

BILLING CODE 6717-01-P